DEPARTMENT OF ENERGY

Federal Energy Regulatory Commission

Combined Notice of Filings

Take notice that the Commission has received the following Natural Gas Pipeline Rate and Refund Report filings and Accounting Request filings:

Filings Instituting Proceedings

Docket Numbers: AC26-23-000.

Applicants: Entergy Louisiana, LLC.

Description: Entergy Louisiana, LLC submits supplemental proposed final post-transaction accounting entries to clear Account 102 re sale of its gas distribution business to Delta Capital Gas Company, LLC.

Filed Date: 2/24/26.

Accession Number: 20260224-5208.

Comment Date: 5 p.m. ET 3/17/26.

Docket Numbers: AC26-24-000.

Applicants: Entergy New Orleans, LLC.

Description: Entergy New Orleans, LLC submits supplemental proposed final post-transaction accounting entries to clear Account 102 re sale of its gas distribution business to Delta New Orleans Gas Company, LLC.

Filed Date: 2/24/26.

Accession Number: 20260224-5204.

Comment Date: 5 p.m. ET 3/17/26.

Docket Numbers: AC26-28-000.

Applicants: Howard Midstream Energy Partners, LLC.

Description: Howard Midstream Energy Partners, LLC submits proposed journal entries and request for approval to use FERC Account No. 705 to correct a misstatement of Accrued Depreciation and Other Noncurrent Liabilities.

Filed Date: 2/25/26.

Accession Number: 20260225-5050.

Comment Date: 5 p.m. ET 3/18/26.

Docket Numbers: RP26-511-000.

Applicants: TransCameron Pipeline, LLC.

Description: Annual Report of Operational Purchases and Sales of TransCameron Pipeline, LLC.

Filed Date: 2/24/26.

Accession Number: 20260224-5119.

Comment Date: 5 p.m. ET 3/9/26.

Docket Numbers: RP26-512-000.

Applicants: Venture Global Gator Express, LLC.

Description: Annual Report of Operational Purchases and Sales of Venture Global Gator Express, LLC.

Filed Date: 2/24/26.

Accession Number: 20260224-5120.

Comment Date: 5 p.m. ET 3/9/26.

Docket Numbers: RP26-513-000.

Applicants: National Fuel Gas Distribution Corporation, NORTH EAST HEAT & LIGHT COMPANY.

Description: Joint Petition for Limited Waiver of Capacity Release Regulations, et al. of National Fuel Gas Distribution Corporation, et al.

Filed Date: 2/24/26.

Accession Number: 20260224-5194.

Comment Date: 5 p.m. ET 3/9/26.

Docket Numbers: RP26-514-000.

Applicants: Columbia Gas Transmission, LLC.

Description: Compliance filing: Annual Report of Operational Transactions 2026 to be effective N/A.

Filed Date: 2/25/26.

Accession Number: 20260225-5034.

Comment Date: 5 p.m. ET 3/9/26.

Docket Numbers: RP26-515-000.

Applicants: Columbia Gulf Transmission, LLC.

Description: Compliance filing: Annual Report of Operational Transactions 2026 to be effective N/A.

Filed Date: 2/25/26.

Accession Number: 20260225-5035.

Comment Date: 5 p.m. ET 3/9/26.

Docket Numbers: RP26-516-000.

Applicants: Crossroads Pipeline Company LLC.

Description: Compliance filing: Annual Report of Operational Transactions 2026 to be effective N/A.

Filed Date: 2/25/26.

Accession Number: 20260225-5037.

Comment Date: 5 p.m. ET 3/9/26.

Docket Numbers: RP26-517-000.

Applicants: Hardy Storage Company, LLC.

Description: Compliance filing: Annual Report of Operational Transactions 2026 to be effective N/A.

Filed Date: 2/25/26.

Accession Number: 20260225-5038.

Comment Date: 5 p.m. ET 3/9/26.

Docket Numbers: RP26-518-000.

Applicants: Millennium Pipeline Company, LLC.

Description: Compliance filing: Annual Report of Operational Transactions 2026 to be effective N/A.

Filed Date: 2/25/26.

Accession Number: 20260225-5042.

Comment Date: 5 p.m. ET 3/9/26.

Docket Numbers: RP26-519-000.

Applicants: Iroquois Gas Transmission System, L.P.

Description: § 4(d) Rate Filing: 2.25.26 Negotiated Rates—Freepoint Commodities LLC R-7250-51 to be effective 3/1/2026.

Filed Date: 2/25/26.

Accession Number: 20260225-5064.

Comment Date: 5 p.m. ET 3/9/26.

Docket Numbers: RP26-520-000.

Applicants: Iroquois Gas Transmission System, L.P.

Description: § 4(d) Rate Filing: 2.25.26 Negotiated Rates—Freepoint Commodities LLC R-7250-52 to be effective 3/1/2026.

Filed Date: 2/25/26.

Accession Number: 20260225-5073.

Comment Date: 5 p.m. ET 3/9/26.

Docket Numbers: RP26-521-000.

Applicants: Iroquois Gas Transmission System, L.P.

Description: § 4(d) Rate Filing: 2.25.26 Negotiated Rates—Mercuria Energy America, LLC R-7540-02 to be effective 3/1/2026.

Filed Date: 2/25/26.

Accession Number: 20260225-5078.

Comment Date: 5 p.m. ET 3/9/26.

Docket Numbers: RP26-522-000.

Applicants: Midship Pipeline Company, LLC.

Description: Annual Retainage Adjustment Filing of Midship Pipeline Company, LLC.

Filed Date: 2/25/26.

Accession Number: 20260225-5089.

Comment Date: 5 p.m. ET 3/9/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 25, 2026.
Debbie-Anne A. Reese,
Secretary.

[FR Doc. 2026-04130 Filed 3-2-26; 8:45 am]

BILLING CODE 6717-01-P